DEPARTMENT OF LABOR

Employment and Training Administration

[TA-W-55,799]

CDI Professional Services, Workers at General Dynamics Land Systems California Technical Center, Goleta, CA; Notice of Termination of Investigation

Pursuant to Section 221 of the Trade Act of 1974, as amended, an investigation was initiated on October 14, 2004 in response to a petition filed on behalf of workers at CDI Professional Services employed at General Dynamics Land Systems, California Technical Center, Goleta, California. Workers were largely test engineers and R&D specialists who worked at the California Technical Center supporting production of armored vehicle components at a General Dynamics Land Systems facility in Alabama.

The Department of Labor issued negative determinations applicable to the workers of General Dynamics Land Systems, California Technical Center, Goleta, California (TA-W-55,658), which included leased workers of CDI Professional Services at the Center. No new information or change in circumstances is evident which would result in a reversal of the Department's previous determinations. Consequently, further investigation would serve no purpose, and the investigation has been terminated.

Signed at Washington, DC this 17th day of November 2004.
Richard Church,
Certifying Officer, Division of Trade Adjustment Assistance.

[FR Doc. E4-3369 Filed 11-29-04; 8:45 am]

BILLING CODE 4510-30-P